DEPARTMENT OF LABOR

Employment and Training Administration

Notice of an Open Meeting of the Advisory Committee on Apprenticeship (ACA)

AGENCY: Employment and Training Administration, Labor.

ACTION: Announcement of meeting.

SUMMARY: Pursuant to section 10 of the Federal Advisory Committee Act (Pub. L. 92 463; 5 U.S.C. APP. 1), notice is hereby given to announce an open meeting of the Advisory Committee on Apprenticeship (ACA) being held on January 10-11, 2011.

The ACA, an advisory board to the Secretary of Labor, is a discretionary Committee established by the Secretary of Labor, in accordance with the provisions of the Federal Advisory Committee Act (FACA), as amended 5 U.S.C., App. 2, and its implementing regulations (41 CFR 101-6 and 102-3). All meetings of the ACA are open to the public.

TIME AND DATE: The meeting will begin at approximately 12:30 p.m. on Monday, January 10, 2011, and continue until approximately 5 p.m. The meeting will reconvene on Tuesday, January 11, 2011, at approximately 8:30 a.m. and adjourn at approximately 5 p.m.

ADDRESSES: The meeting location is U.S. Department of Labor, Frances Perkins Building, 200 Constitution Avenue, NW., Washington, DC 20210.

FOR FURTHER INFORMATION CONTACT: Mr. John V. Ladd, Administrator, Office of Apprenticeship, ETA, U.S. Department of Labor, 200 Constitution Avenue, NW., Room N-5311, Washington, DC 20210. Telephone: (202) 693-2796, (this is not a toll-free number).

SUPPLEMENTARY INFORMATION: Members of the public are invited to attend the proceedings. If individuals have special needs and/or disabilities that will require special accommodations, please contact Ms. Kenya Huckaby on (202) 693-3795 no later than Monday, January 3, 2011, to request for arrangements to be made. Any member of the public who wishes to file written data or comments pertaining to the agenda may do so by sending the data or comments to Mr. John V. Ladd, Administrator, Office of Apprenticeship, ETA, U.S. Department of Labor, Room N-5311, 200 Constitution Avenue, NW., Washington, DC 20210. Such submissions must be sent by Monday, January 3, 2011, to be included in the record for the meeting.

The agenda is subject to change due to time constraints and priority items which may come before the ACA between the time of this publication and the scheduled date of the ACA meeting.

Matters To Be Considered

The agenda will focus on the following topics:

• Committee's deliberations and recommendations concerning DOL's plans to revise Registered Apprenticeship's EEO regulations;

• Implementation and Policy Issues related to 29 CFR 29;

• Partnerships with Education and Workforce Systems;

• Increasing Opportunities for Under-Represented Populations through Pre-Apprenticeship; and

• Expanding Registered Apprenticeship into High Growth Industries.

Any member of the public who wishes to speak at the meeting must indicate the nature of the intended presentation and the amount of time needed by furnishing a written statement to the Designated Federal Official, Mr. John V. Ladd, by Monday, January 3, 2011. The Chairperson will announce at the beginning of the meeting the extent to which time will permit the granting of such requests.

Signed at Washington, DC, this 15th day of December 2010.
Jane Oates,
Assistant Secretary for the Employment and Training Administration.

[FR Doc. 2010-31886 Filed 12-17-10; 8:45 am]

BILLING CODE 4510-FR-P